DEPARTMENT OF JUSTICE

Antitrust Division

Notice Pursuant to the National Cooperative Research and Production Act of 1993—Zyvex Corporation—Advanced Technology Program, National Institute of Standards and Technology (“Zyvex Corporation”)

Notice is hereby given that, on October 15, 2001, pursuant to section 6(a) of the National Cooperative Research and Production Act of 1993, 15 U.S.C. 4301 et seq. (“the Act”), Zyvex Corporation—Advanced Technology Program, National Institute of Standards and Technology (“Zyvex Corporation”) has filed written notifications simultaneously with the Attorney General and the Federal Trade Commission disclosing (1) the identities of the parties and (2) the nature and objectives of the venture. The notifications were filed for the purpose of involving the Act's provisions limiting the recovery of antitrust plaintiffs to actual damages under specified circumstances. Pursuant to section 6(b) of the Act, the identities of the parties are Zyvex Corporation, Richardson, TX; and Standard MEMS, Inc., Burlington, MA. The nature and objectives of the venture are to develop and demonstrate low-cost, computer controlled, microscale components, with extension of this technology to nanoscale assemblers for the commercialization of nanotechnology.

Constance K. Robinson,
Director of Operations, Antitrust Division.

[FR Doc. 01-30166 Filed 12-4-01; 8:45 am]

BILLING CODE 4410-11-M